DEPARTMENT OF HEALTH AND HUMAN SERVICES

Administration for Children and Families

[OMB No. 0970-0248]

Submission for Office of Management and Budget (OMB) Review; Annual Report on State Maintenance-of-Effort (MOE) Programs—ACF-204 (Annual MOE Report) (Office of Management and Budget

AGENCY: Office of Family Assistance, Administration for Children and Families, U.S. Department of Health and Human Services.

ACTION: Request for public comments.

SUMMARY: The Administration for Children and Families (ACF) is requesting a 3-year extension of the ACF-204 (Annual MOE Report; OMB #0970-0248, expiration November 30, 2022). There are no changes requested to this information collection.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The Annual MOE Report is used to collect descriptive program characteristics information on the programs operated by states and territories in association with their Temporary Assistance for Needy Families (TANF) programs. All state and territory expenditures claimed toward states and territories MOE requirements must be appropriate, i.e., meet all applicable MOE requirements. The Annual MOE Report provides the ability to learn about and to monitor the nature of state and territory expenditures used to meet states and territories MOE requirements, and it is an important source of information about the different ways that states and territories are using their resources to help families attain and maintain self-sufficiency. In addition, the report is used to obtain state and territory program characteristics for ACFs annual report to Congress, and the report serves as a useful resource to use in Congressional hearings about how TANF programs are evolving, in assessing state and the territory MOE expenditures, and in assessing the need for legislative changes.

Respondents: The 50 States of the United States, the District of Columbia, Guam, Puerto Rico, and the Virgin Islands.

Annual Burden Estimates
Instrument | Total number of respondents per year | Total number of annual responses per respondent | Average burden hours per response | Annual burden hours
ACF-204; Annual MOE Report | 54 | 1 | 118 | 6,372

Estimated Total Annual Burden Hours: 6,372.

Authority: Section 402 of the Social Security Act (42 U.S.C. 602), as amended by Public Law 104-193, the Personal Responsibility and Work Opportunity Reconciliation Act of 1996.

Mary B. Jones,
ACF/OPRE Certifying Officer.

[FR Doc. 2022-26542 Filed 12-6-22; 8:45 am]

BILLING CODE 4184-82-P